DEPARTMENT OF COMMERCE

Foreign-Trade Zones Board

[S-119-2014]

Foreign-Trade Zone 29—Louisville, Kentucky, Application for Subzone, Kinder Morgan Operating L.P. “C”, Hawesville, Kentucky

An application has been submitted to the Foreign-Trade Zones (FTZ) Board by the Louisville & Jefferson County Riverport Authority, grantee of FTZ 29, requesting subzone status for the facilities of Kinder Morgan Operating L.P. “C”, located in Hawesville, Kentucky. The application was submitted pursuant to the provisions of the Foreign-Trade Zones Act, as amended (19 U.S.C. 81a-81u), and the regulations of the FTZ Board (15 CFR part 400). It was formally docketed on September 10, 2014.

The proposed subzone would consist of the following sites: Site 1 (17.73 acres) 1900 Highway 3543, Hawesville, Hancock County; and Site 2 (16 acres) 2710 Highway 334, Hawesville, Hancock County. No authorization for production activity has been requested at this time. The proposed subzone would be subject to the existing activation limit of FTZ 29.

In accordance with the FTZ Board's regulations, Elizabeth Whiteman of the FTZ Staff is designated examiner to review the application and make recommendations to the Executive Secretary.

Public comment is invited from interested parties. Submissions shall be addressed to the FTZ Board's Executive Secretary at the address below. The closing period for their receipt is October 28, 2014. Rebuttal comments in response to material submitted during the foregoing period may be submitted during the subsequent 15-day period to November 12, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For Further Information Contact: Elizabeth Whiteman at Elizabeth.Whiteman@trade.gov or (202) 482-0473.

Dated: September 10, 2014.
Andrew McGilvray,
Executive Secretary.

[FR Doc. 2014-22220 Filed 9-17-14; 8:45 am]

BILLING CODE 3510-DS-P